ENVIRONMENTAL PROTECTION AGENCY

[OECA-2003-0039; FRL-7506-5]

Agency Information Collection Activities; Submission for OMB Review and Approval; Comment Request; NSPS for Nonmetallic Mineral Processing

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Nonmetallic Mineral Processing (40 CFR part 60, subpart OOO) OMB Control Number 2060-0050, EPA ICR Number 1084.07 The ICR, which is abstracted below, describes the nature of the information collection and its estimated burden and cost.

DATES: Additional comments may be submitted on or before July 2, 2003.

ADDRESSES: Follow the detailed instructions under SUPPLEMENTARY INFORMATION.

FOR FURTHER INFORMATION CONTACT: Gregory Fried, Compliance Assessment and Media Programs Division, Office of Compliance, Mail Code 2223A, Environmental Protection Agency, 1200 Pennsylvania Avenue, NW., Washington, DC 20460; telephone number: (202) 564-7016; fax number: (202) 564-0050; E-mail address: fried.gregory@epa.gov.

SUPPLEMENTARY INFORMATION: EPA has submitted the following ICR to OMB for review and approval according to the procedures prescribed in 5 CFR 1320.12. On September 26, 2002 (67 FR 60672), EPA sought comments on this ICR pursuant to 5 CFR 1320.8(d). EPA received no comments.

EPA has established a public docket for this ICR under Docket ID Number OECA-2003-0039, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1514. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice, and according to the following detailed instructions: (1) Submit your comments to EPA online using EDOCKET (our preferred method), by E-mail to docket.oeca@epa.gov, or by mail to: EPA Docket Center, Environmental Protection Agency, Mail Code: 2201T, 1200 Pennsylvania Avenue, NW., Washington, DC 20460, and (2) mail your comments to OMB at: Office of Information and Regulatory Affairs, Office of Management and Budget (OMB), Attention: Desk Officer for EPA, 725 17th Street, NW., Washington, DC 20503.

EPA's policy is that public comment, whether submitted electronically or on paper, will be available for public viewing in EDOCKET, as EPA receives them without change, unless the comment contains copyrighted material, Confidential Business Information (CBI), or other information whose public disclosure is restricted by statute. When EPA identifies a comment containing copyrighted material, EPA will provide a reference to that material in the version of the comment placed in EDOCKET. The entire printed comment, including copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NSPS for Nonmetallic Mineral Processing (40 CFR part 60, subpart OOO), (OMB Control Number 2060-0050, EPA ICR Number 1084.07). This is a request to renew an existing, approved collection that is scheduled to expire on June 30, 2003. Under OMB regulations, the Agency may continue to conduct or sponsor the collection of information while this submission is pending at OMB.

Abstract: The Administrator has judged that PM emissions from nonmetallic mineral processing plants cause or contribute to air pollution that may reasonably be anticipated to endanger public health or welfare. This standard applies to owners or operators of new, modified, or reconstructed facilities at nonmetallic mineral processing plants that commenced construction, modification, or reconstruction after August 1, 1985. Nonmetallic mineral processing includes the following affected facilities: each crusher, grinding mill, screening operation, bucket elevator, belt conveyor, bagging operation, storage bin, and enclosed truck or railcar loading station. This standard does not apply to facilities located in underground mines; stand-alone screening operations; operations that only involve recycled asphalt; fixed sand gravel, or crushed stone plants with capacities of 25 tons per hour or less; portable sand, gravel, or crushed stone plants with capacities of 150 tons per hour or less; common clay or pumice plants with capacities of 10 tons per hour or less. Additionally, when an existing facility is replaced by a piece of equipment of equal or smaller size it is not subject to the standard until all facilities in a production line are replaced. Affected facilities in the plant process that are subject to 40 CFR part 60, subpart F, for Portland Cement NSPS, or subpart I, Asphalt Concrete Plants NSPS, are not subject to this NSPS.

Respondents must submit the following one-time-only reports: notification of the date of construction or reconstruction, notification of the actual date of initial startup, notification of any physical or operational change to an existing facility which may increase the regulated pollutant emission rate, notification of demonstration of the continuous emission monitor system (CMS) where the CMS is required (wet scrubber), notification of the date of the initial performance test, and the results of the initial performance test. Wet mining/screening operations are exempt from all requirements of the regulation, except an initial report and record describing the location of these operations. The general provision requirement to submit a notification of the anticipated date of initial startup is being waived for respondents subject to this standard. The required notifications are used to inform the Agency or delegated authority when a source becomes subject to the standard.

Respondents are also required to maintain records of the occurrence and duration of any startup, shutdown, or malfunction in the operation of an affected facility, or any period during which the monitoring system is inoperative. Owners or operators of facilities using a wet scrubber must record the measurements of both the change in pressure of the gas stream across the scrubber and the scrubbing liquid flow rate and submit semiannual reports for occurrences when the measurements of the scrubber pressure loss (or gain) and liquid flow rate differ by more than +/-30 percent from the average determined during the most recent performance test. All records shall be retained for at least two years. The information collected from recordkeeping and reporting requirements is necessary to ensure compliance with these standards, as required by section 114(a) of the Clean Air Act.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 5.6 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Nonmetallic Mineral Processing Plants.

Estimated Number of Respondents: 3,825.

Frequency of Response: Initial.

Estimated Total Annual Hour Burden: 31,026 hours.

Estimated Total Capital and Operations & Maintenance (O & M) Annual Costs: 0.

Changes in the Estimates: There is a decrease of 720 hours in the total estimated burden currently identified in the OMB Inventory of Approved ICR Burdens. This decrease is due to correction of a mathematical error regarding the total number of respondents in the most recently approved ICR, in spite of a small increase in sources.

Dated: May 13, 2003.
Oscar Morales,
Director, Collection Strategies Division.

[FR Doc. 03-13716 Filed 5-30-03; 8:45 am]

BILLING CODE 6560-50-P